DEPARTMENT OF JUSTICE

Notice of Cancellation of Task Force on Research on Violence Against American Indian and Alaska Native Women Meeting

AGENCY: Office on Violence Against Women, United States Department of Justice.

ACTION: Notice; cancellation of meeting.

The Office on Violence Against Women (OVW), U.S. Department of Justice published a notice in the Federal Register concerning a meeting of the Task Force on Research on Violence Against American Indian and Alaska Native Women (hereinafter “the Task Force”). The meeting, scheduled for Monday, February 10, 2025 at 1:00 p.m. has been cancelled and will be rescheduled for a later date. The notice is in the Federal Register on Friday, January 17, 2025 in FR Document Number 2025-01107 at 90 FR 6012.

FOR FURTHER INFORMATION CONTACT: Contact Sherriann C. Moore, Deputy Director, Tribal Affairs Division, Office on Violence Against Women, United States Department of Justice, at (202) 616-0039 or ovw.tribalaffairs@usdoj.gov. More information on the Task Force may be found at https://www.justice.gov/ovw/section-904-task-force and about the NIJ program of research at: https://nij.ojp.gov/topics/tribal-crime-and-justice.

Virginia Baran,
Supervisory Official, Deputy Director for Grants Development and Management, Office on Violence Against Women.

[FR Doc. 2025-02229 Filed 2-4-25; 8:45 am]

BILLING CODE 4410-FX-P